DEPARTMENT OF COMMERCE

National Oceanic and Atmospheric Administration

RIN 0648-XC014

Marine Mammals; File No. 17670

AGENCY: National Marine Fisheries Service (NMFS), National Oceanic and Atmospheric Administration (NOAA), Commerce.

ACTION: Notice; receipt of application for permit amendment.

SUMMARY: Notice is hereby given that the NMFS Northeast Fisheries Science Center, 166 Water Street, Woods Hole, MA 02543 (Responsible Party: William Karp, Ph.D.), has applied for an amendment to Scientific Research Permit No. 17670-02.

DATES: Written, telefaxed, or email comments must be received on or before August 10, 2015.

ADDRESSES: The application and related documents are available for review by written request or by appointment in the Permits and Conservation Division, Office of Protected Resources, NMFS, 1315 East-West Highway, Room 13705, Silver Spring, MD 20910; phone (301) 427-8401; fax (301) 713-0376.

Written comments on this application should be submitted to the Chief, Permits and Conservation Division, at the address listed above. Comments may also be submitted by facsimile to (301) 713-0376, or by email to NMFS.Pr1Comments@noaa.gov. Please include File No. 17670 in the subject line of the email comment.

Those individuals requesting a public hearing should submit a written request to the Chief, Permits and Conservation Division at the address listed above. The request should set forth the specific reasons why a hearing on this application would be appropriate.

FOR FURTHER INFORMATION CONTACT: Amy Sloan or Courtney Smith, (301) 427-8401.

SUPPLEMENTARY INFORMATION: The subject amendment to Permit No. 17670-02 is requested under the authority of the Marine Mammal Protection Act of 1972, as amended (16 U.S.C. 1361 et seq.), and the regulations governing the taking and importing of marine mammals (50 CFR part 216).

Permit No. 17670-00 issued on April 11, 2013 (77 FR 64959), authorized the permit holder to take gray (Halichoerus grypus), harbor (Phoca vitulina),, harp (Pagophilus groenlandicus), and hooded (Cystophora cristata) seals in waters within or proximal to the U.S. EEZ from North Carolina northward to Maine, during conduct of stock assessment research, including estimation of distribution and abundance, determination of stock structure, habitat requirements, foraging ecology, health assessment and effects of natural and anthropogenic factors. Types of take include harassment during shipboard, skiff, and aircraft transect and photo-identification surveys, and scat collection; and, capture with tissue sampling and instrument or tag attachment. A limited number of research-related mortality is also allowed, as well as world-wide import and export of pinniped samples. The permit was amended on two occasions via minor amendments: Permit No. 17670-01 authorized sampling of pinniped carcasses aboard commercial fishing vessels; and, Permit No. 17670-02 authorized nail clipping and fecal loop sampling during permitted captures.

The permit holder is requesting the permit be amended to include authorization to (1) increase the number of gray and harbor seals harassed annually during research; (2) add use of unmanned aircraft systems to survey seals; (3) increase the number of gray and harbor seals captured and handled for sampling and instrumentation, and increase the frequency of sampling; (4) increase the number of biopsy samples (from one to two) taken during sampling; (5) add harassment from photo-identification of gray seals to study pup molting; (6) increase the number of gray and harbor seal samples imported/exported annually; (7) increase unintentional mortality including via euthanasia in the event sick or injured seals are inadvertently captured. Take numbers are enumerated in the amendment request take tables.

In compliance with the National Environmental Policy Act of 1969 (42 U.S.C. 4321 et seq.), an initial determination has been made that the activity proposed is categorically excluded from the requirement to prepare an environmental assessment or environmental impact statement.

Concurrent with the publication of this notice in the Federal Register, NMFS is forwarding copies of this application to the Marine Mammal Commission and its Committee of Scientific Advisors.

Dated: July 7, 2015.
Julia Harrison,
Chief, Permits and Conservation Division, Office of Protected Resources, National Marine Fisheries Service.

[FR Doc. 2015-16911 Filed 7-9-15; 8:45 am]

BILLING CODE 3510-22-P